DEPARTMENT OF AGRICULTURE

Forest Service

Information Collection; Wild Food Collecting in Atlanta's Browns Mill Community

AGENCY: Forest Service, USDA.

ACTION: Notice; request for comment.

SUMMARY: In accordance with the Paperwork Reduction Act of 1995, the USDA Forest Service is seeking comments from all interested individuals and organizations on the information collection, Wild Food Collecting in Atlanta's Browns Mill Community, under the approved Forest Service Generic Information Collection on Non-Timber Forest Products.

DATES: Comments must be received in writing on or before July 9, 2018 to be assured of consideration. Comments received after that date will be considered to the extent practicable.

ADDRESSES: Comments concerning this notice should be addressed to Cassandra Johnson Gaither, Forestry Sciences Lab, 320 Green St., Athens, GA 30602. Comments also may be submitted via facsimile to (706) 559-4266 or by email to: cjohnson09@fs.fed.us. The public may inspect comments received at Forestry Sciences Lab, 320 Green St., Athens, GA 30602 during normal business hours. Visitors are encouraged to call ahead to (706) 559-4264 to facilitate entry to the building.

FOR FURTHER INFORMATION CONTACT: Cassandra Johnson Gaither, USDA Forest Service, Southern Research Station, 706-559-4270. Individuals who use telecommunication devices for the deaf (TDD) may call the Federal Relay Service (FRS) at 1-800-877-8339 twenty-four hours a day, every day of the year, including holidays.

SUPPLEMENTARY INFORMATION: Title: Wild Food Collecting in Atlanta's Browns Mill Community.

OMB Number: 0596-0243.

Expiration Date of Approval: October 31, 2020.

Type of Request: Individual Information Collection under Approved Generic Information Collection.

Abstract: This information collection gathers data on the social acceptability of urban foraging in Atlanta's Browns Mill community, and is an individual information collection under the Forest Service generic collection on non-timber forest products (Office of Management and Budget approval # 0596-0243, approved through October 31, 2020). This 30-day Federal Register Notice provides an opportunity for public comment on this individual information collection taking place under the generic collection approval.

There is growing literature on urban foraging in the United States that concentrates on the Northeast, Pacific Northwest, and Pacific Southwest regions of the country. No studies have undertaken this investigation in the South, despite the fact that the South has a climate very conducive to both the growing and harvesting of wild foods. The City of Atlanta is cooperating with the Browns Mill community in southeast Atlanta to establish a Food Forest. This effort is being undertaken to help address the relative dearth of fresh produce sources in this part of the city, areas considered “food deserts”. The success of this effort for the Browns Mill community will hinge on residents' views and ultimate engagement with the resource. This study aims to capture that information.

The data are intended to provide information on both urban foraging practices and the social acceptability of foraging by an urban minority group that is underserved from the perspective of having nearby, fresh produce sources. The survey will be conducted face-to-face at the household using paper copies of a survey instrument. Attempts will be made to conduct the survey face-to-face, but if that is not convenient for the householder, the survey will be left at the respondent's home and picked up at an agreed upon time. Trained neighborhood residents will help to administer the survey. Attempts will be made to have survey administrators from the Browns Mill or a nearby community. This is expected to increase response rates because of the familiarity of administrators with this part of the city. All administrators will receive training in appropriate data collection techniques from the USDA Forest Service or one of its partners.

Type of Respondents: Browns Mill community residents.

Estimated Annual Number of Respondents: 400.

Estimated Annual Number of Responses per Respondent: 1.

Estimated Amount of Time to Complete Survey Respondent: .167 hours.

Estimated Total Annual Burden on Respondents: 66.8 hours.

Comment is Invited:

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 11, 2018.
Carlos Rodriguez-Franco,
Deputy Chief, Research & Development.

[FR Doc. 2018-12311 Filed 6-7-18; 8:45 am]

BILLING CODE 3411-15-P